FEDERAL MARITIME COMMISSION

Agency Information Collection Activities: Submission for OMB Review; Comment Request

AGENCY: Federal Maritime Commission.

ACTION: Final notice of submission for OMB review.

SUMMARY: In accordance with the Paperwork Reduction Act of 1995, the Federal Maritime Commission (FMC or Commission) hereby gives notice that it has submitted to the Office of Management and Budget a request for an extension of the existing collection requirements under 46 CFR part 532—NVOCC Negotiated Rate Arrangements. The FMC has requested an extension of an existing collection as listed below.

DATES: Written comments must be submitted on or before September 6, 2016.

ADDRESSES: Comments should be addressed to:

Office of Information and Regulatory Affairs, Office of Management and Budget, Attention: Desk Officer for FMC, 725 17th Street NW., Washington, DC 20503, OIRA_Submission@OMB.EOP.GOV, Fax (202) 395-5806 and to:

Vern Hill, Managing Director, Office of the Managing Director, Federal Maritime Commission, 800 North Capitol Street NW., Washington, DC 20573, (202) 523-5800, omd@fmc.gov.

FOR FURTHER INFORMATION CONTACT: Copies of the submission(s) may be obtained by contacting Donna L. Lee on 202-523-5800 or email: dlee@fmc.gov.

SUPPLEMENTARY INFORMATION: A notice that FMC would be submitting this request was published in the Federal Register on April 27, 2016 (81 FR 24814) allowing for a 60-day comment period. No comments were received.

The FMC hereby informs potential respondents that an agency may not conduct or sponsor, and that a person is not required to respond to, a collection of information unless it displays a currently valid OMB control number.

Information Collection Open for Comment

Title: 46 CFR part 532—NVOCC Negotiated Rate Arrangements.

OMB Approval Number: 3072-0071 (Expires July 31, 2016).

Abstract: Section 16 of the Shipping Act of 1984, 46 U.S.C. 40103, authorizes the Commission to exempt by order or regulation “any class of agreements between persons subject to this [Act] or any specified activity of those persons from any requirement of this [Act] if the Commission finds that the exemption will not result in substantial reduction in competition or be detrimental to commerce.” The Commission may attach conditions to any exemption and may, by order, revoke an exemption. In 46 CFR part 532, the Commission exempted non-vessel-operating common carriers (NVOCCs) from the tariff rate publication requirements of part 520, and allowed an NVOCC to enter into an NVOCC Negotiated Rate Arrangement (NRA) in lieu of publishing its tariff rate(s), provided the NVOCC posts a prominent notice in its rules tariff invoking the NRA exemption and provides electronic access to its rules tariff to the public free of charge. This information collection corresponds to the rules tariff prominent notice and the requirement to make its tariff publicly available free of charge.

Current Actions: There are no changes to this information collection, and it is being submitted for extension purposes only.

Type of Review: Extension.

Needs and Uses: The Commission uses the information filed by an NVOCC in its rules tariff to determine whether the NVOCC has invoked the exemption for a particular shipment or shipments. The Commission has used and will continue to use the information required to be maintained by NVOCCs for monitoring and investigatory purposes, and, in its proceedings, to adjudicate related issues raised by private parties.

Frequency: An NVOCC invokes the NRA exemption by publishing a prominent notice in its rules tariff once.

Type of Respondents: NVOCCs.

Number of Annual Respondents: 255. New NVOCCs become licensed or registered with the Commission regularly. Of those, approximately 255 invoke the exemption by publishing a tariff rule or prominent notice.

Estimated Time per Response: 15 minutes for those adding a tariff rule to use a combination of tariff rates and NRAs. One hour for those who make their tariff rules publicly available by opting to use NRAs exclusively and posting them to their Web site.

Total Annual Burden: Based on the number of NVOCCs who have filed a rule or prominent notice in their respective tariffs, we calculate that 25% of new NVOCCs will use the NRA exemption. Of those, about 3% will use NRAs exclusively. Almost all will likely use similar language invoking the exemption in their tariffs. For the 255 new respondents that invoke the exemption annually and the 1,295 respondents that have invoked the exemption thus far, the total burden is calculated as follows:

Modification of Tariff:

8 × 1 hour = 8 hours (3% using NRAs exclusively)

247 × .25 hour = 61.75 hours rounded to 62 (combination of tariff rates and NRAs)

A total of 1,295 NVOCCs thus far have filed a rule or prominent notice in their tariffs invoking the exemption. For those, the recordkeeping burden is estimated as follows.

Recordkeeping:

1,295 × 1 hour = 1,295 hours

Total annual burden is estimated to be 1,365 hours.

Rachel E. Dickon,
Assistant Secretary.

[FR Doc. 2016-18465 Filed 8-3-16; 8:45 am]

BILLING CODE 6731-AA-P